DEPARTMENT OF THE INTERIOR

Bureau of Ocean Energy Management

[Docket No. BOEM-2014-0078]

Outer Continental Shelf, Alaska OCS Region, Chukchi Sea Planning Area, Oil and Gas Lease Sale 193, MMAA104000

AGENCY: Bureau of Ocean Energy Management (BOEM), Interior.

ACTION: Notice of Availability (NOA) of a Draft Supplemental Environmental Impact Statement and Notice of Public Hearings.

SUMMARY: BOEM is announcing the availability of a Draft Second Supplemental Environmental Impact Statement (SEIS) for the Chukchi Sea Planning Area, OCS Oil and Gas Lease Sale 193 (Lease Sale 193). The Draft Second SEIS (OCS EIS/EA BOEM 2014-653) provides new analysis in accordance with the United States District Court for the District of Alaska (District Court) Order remanding Lease Sale 193 to BOEM. The District Court's order instructs BOEM to address the deficiency in the 2007 Final EIS (OCS EIS/EA MMS 2007-026) identified by the U.S. Court of Appeals for the Ninth Circuit (Ninth Circuit). The Ninth Circuit Court held that the Environmental Impact Statement supporting the decision to hold Lease Sale 193 arbitrarily relied on a 1 billion barrel oil production estimate.

Authority: This Notice of Availability for the Draft Second SEIS is in compliance with the National Environmental Policy Act (NEPA) of 1969, and is published pursuant to 43 CFR 46.305.

DATES: Comments must be received no later than December 22, 2014.

SUPPLEMENTARY INFORMATION: Chukchi Sea OCS Oil and Gas Lease Sale 193 was held in February 2008. The Minerals Management Service (MMS) (predecessor to BOEM) received high bids totaling approximately $2.7 billion and issued 487 leases. The lease sale decision was challenged in the U.S. District Court for the District of Alaska. In 2010, the District Court remanded the case to the agency to remedy deficiencies pertaining to the agency's compliance with NEPA. BOEM released a Final SEIS in August 2011 and the Secretary of the Interior reaffirmed the lease sale in October 2011. In February 2012, the District Court ruled the Department of the Interior had met its NEPA obligations on remand. In April 2012, the plaintiffs appealed the District Court's decision to the U.S. Court of Appeals for the Ninth Circuit.

In a January 22, 2014, opinion, the Ninth Circuit found MMS's “reliance in the [Final Environmental Impact Statement] on a one billion barrel estimate of total economically recoverable oil was arbitrary and capricious.” The Ninth Circuit explained that “NEPA require[s] [the Agency] to base its analysis on the full range of likely production if oil production were to occur.” Id. The Ninth Circuit remanded the case to the District Court, which further remanded the matter to BOEM on April 24, 2014.

BOEM has prepared a Draft Second SEIS for Lease Sale 193 in accordance with the April 24, 2014 remand order of the District Court. The Draft Second SEIS addresses the deficiencies identified in the Ninth Circuit opinion by analyzing the potential environmental effects of potential oil and gas activities associated with Lease Sale 193 based on a new exploration and development scenario.

Prior to this NOA, BOEM made the Draft Second SEIS available to the public by issuing a press release and posting the Draft Second SEIS on the BOEM Web site. The Draft Second SEIS continues to be available on BOEM's Web site at http://www.boem.gov/Alaska-Region for downloading and viewing. In keeping with the Department of the Interior's mission to protect natural resources and to limit costs, while ensuring availability of the document to the public, BOEM will primarily distribute digital copies of the Draft Second SEIS on compact discs. BOEM has printed and will be distributing a limited number of paper copies. If requested, BOEM will provide a paper copy if copies are still available. You may request a paper copy by calling (907) 334-5200 or the toll free number at 800-764-2627. BOEM has distributed the Draft Second SEIS for viewing at the following libraries in Alaska: Alaska Resources Library and Information Service (Anchorage); University of Alaska Anchorage, Consortium Library; Alaska Pacific University, Academic Support Center Library; University of Alaska Fairbanks, Institute of Arctic Biology; University of Alaska Fairbanks, Elmer E. Rasmuson Library; Nellie Weyiouanna Ilisaavik Library, Shishmaref; Katie Tokienna Memorial Library, Wales; Noel Wien Library, Fairbanks; Kaveolook School Library, Kaktovik; Koyuk City Library; Tikigaq Library, Point Hope; Trapper School Community Library, Nuiqsut; Juneau Public Library; University of Alaska Southeast Library, Juneau; Alaska State Library, Juneau; and Kegoyah Kozga Public Library, Nome.

Written Comments: Federal, state, tribal, and local governments and/or agencies and all other interested parties may submit written comments on this Draft Second SEIS at: Federal eRulemaking Portal: http://www.regulations.gov. In the field entitled, “Enter Keyword or ID,” enter BOEM-2014-0078, and then click “search.” BOEM will make available all comments in their entirety on http://www.regulations.gov. However, to the extent practicable, BOEM will remove inappropriate content (i.e., contains vulgar language, personal attacks of any kind, threats, accusations, obscenity, or offensive terms that target specific ethnic or racial groups). Before including your address, phone number, email address or other personal identifying information in your comment, you should be aware that your entire comment, including your personal identifying information, may be made publicly available at any time. While you can ask us in your comment to withhold your personal identifying information from public review, we cannot guarantee that we will be able to do so.

Public Hearings: Pursuant to the regulations implementing the procedural provisions of NEPA, BOEM will hold public hearings on the Draft Second SEIS. These hearings are scheduled as follows:

November 17, 2014, Northwest Arctic Borough Assembly Chambers, 163 Lagoon Street, Kotzebue, Alaska;

November 18, 2014, City Qalgi Center, Point Hope, Alaska;

November 19, 2014, Community Center, Point Lay, Alaska;

November 20, 2014, R. James Community Center, Wainwright, Alaska;

December 1, 2014, Loussac Library Complex, 3600 Denali Street, Anchorage, Alaska;

December 3, 2014, Ilisagvik College (Albert Hall), 100 Stevenson Street, Barrow, Alaska; and

December 4, 2014, Westmark Hotel, 813 Noble Street, Fairbanks, Alaska.

All meetings will start at 7:00 p.m.

FOR FURTHER INFORMATION CONTACT: Michael Routhier, Program Analysis Officer and Project Manager, BOEM, Alaska OCS Region, 3801 Centerpoint Drive, Suite 500, Anchorage, Alaska 99503-5823 or by telephone at (907) 334-5200.

Dated: October 20, 2014.
Walter D. Cruickshank,
Acting Director, Bureau of Ocean Energy Management.

[FR Doc. 2014-25745 Filed 11-6-14; 8:45 am]

BILLING CODE 4310-MR-P